DEPARTMENT OF HOMELAND SECURITY

Coast Guard

[Docket No. USCG-2017-0648]

Certificate of Alternative Compliance for Viking Yacht Company's 92C Enclosed Bridge Yacht, HIN: VKY92111I617

AGENCY: Coast Guard, DHS.

ACTION: Notice.

SUMMARY: The Coast Guard announces that the District Five Prevention Division (Dp) has issued a Certificate of Alternate Compliance (COAC) from the International Regulations for Preventing Collisions at Sea, 1972 (72 COLREGS), for Viking Yacht Company's 92C Enclosed Bridge yacht, HIN: VKY92111I617, as required by statue. Due to the construction and placement of the pilothouse aft of amidships, the vessel cannot fully comply with the masthead light provisions of the 72 COLREGS without interfering with the vessel's design and construction, as there are no structures forward of amidships on which a masthead light could be affixed. This notice promotes the Coast Guard's maritime safety and stewardship missions.

ADDRESSES: Documents mentioned in the preamble are part of docket USCG-2017-0648. To view documents mentioned in this preamble as being available in the docket, go to the Federal eRulemaking Portal at http://www.regulations.gov, type the docket number in the “SEARCH” box, and click “SEARCH.” Click on “Open Docket Folder” on the line associated with this notice.

FOR FURTHER INFORMATION CONTACT: For further information or questions about this notice, call or email: CDR Scott W. Muller, District Five, Chief, Inspections and Investigations, U.S. Coast Guard; telephone: 757-398-6389, email: Scott.W.Muller@uscg.mil.

SUPPLEMENTARY INFORMATION: The United States is signatory to the International Maritime Organization's International Regulations for Preventing Collisions at Sea, 1972 (72 COLREGS), as amended. The special construction or purpose of some vessels makes them unable to comply with the light, shape, and sound signal provisions of the 72 COLREGS. Under statutory law ¹ and Coast Guard regulation, ² a vessel may instead meet alternative requirements and the vessel's owner, builder, operator, or agent may apply for a COAC. For vessels of special construction, the cognizant Coast Guard District Office determines whether the vessel for which the COAC is sought complies as closely as possible with the 72 COLREGS and decides whether to issue the COAC. Once issued, a COAC remains valid until information supplied in the COAC application or the COAC terms become inapplicable to the vessel. Under the governing statute ³ and regulation,⁴ the Coast Guard must publish notice of this action.

¹ 33 U.S.C. 1605(c).

² 33 CFR 81.3.

³ 33 U.S.C. 1605(c).

⁴ 33 CFR 81.18.

The Commandant, U.S. Coast Guard, hereby finds and certifies that Viking Yacht Company's 92C Enclosed Bridge yacht, HIN: VKY92111I617, is a vessel of special construction or purpose and that, with respect to the position of the masthead light, it is not possible to comply fully with the requirements of the provisions enumerated in the 72 COLREGS without interfering with the design and construction of the vessel. The Prevention Division, Fifth Coast Guard District, further finds and certifies that the proposed placement of the masthead light is in the closest possible compliance with the applicable provisions of the 72 COLREGS and that full compliance with the 72 COLREGS would not significantly enhance the safety of the vessel's operation.

This notice is issued under authority of 33 U.S.C. 1605(c) and 33 CFR 81.

Dated: July 31, 2017.
Jerry R. Barnes,
Captain, Chief, Prevention Division, U. S. Coast Guard.

[FR Doc. 2017-16844 Filed 8-9-17; 8:45 am]

BILLING CODE 9110-04-P